SMALL BUSINESS ADMINISTRATION

Public Federal Regulatory Enforcement Fairness Hearing; Region IX Regulatory Fairness Board

The U.S. Small Business Administration (SBA) Region IX Regulatory Fairness Board and the SBA Office of the National Ombudsman will hold a public hearing on Wednesday, January 18, 2006, at 9 a.m. The meeting will take place at the U.S. Small Business Administration, Entrepreneur Center Training Room, 455 Market Street, 6th Floor, San Francisco, CA to receive comments and testimony from small business owners, small government entities, and small non-profit organizations concerning regulatory enforcement and compliance actions taken by Federal agencies.

Anyone wishing to attend or to make a presentation must contact Gary Marshall, in writing or by fax, in order to be put on the agenda. Gary Marshall, Public Information Officer, SBA, San Francisco District Office, 455 Market Street, 6th Floor, San Francisco, CA 94105, phone (415) 744-6771, fax (415) 744-6812, e-mail: Gary.marshall@sba.gov.

For more information, see our Web site at http://www.sba.gov/ombudsman.

Matthew K. Becker,
Committee Management Officer.

[FR Doc. E5-7595 Filed 12-20-05; 8:45 am]

BILLING CODE 8025-01-P